DEPARTMENT OF TRANSPORTATION

Federal Aviation Administration

14 CFR Part 71

[Airspace Docket No. 00-ASO-26]

Amendment to Class D Airspace, Melbourne, FL

AGENCY: Federal Aviation Administration (FAA), DOT.

ACTION: Final rule.

SUMMARY: This action amends Class D airspace at Melbourne International Airport, FL, by lowering the airspace ceiling from 2,500 feet above ground level (AGL) to 1,900 feet AGL. Due to the high number of overflying aircraft, in the interest of safety the airspace above 1,900 AGL has been delegated by the Melbourne Air Traffic Control Tower, which provides Visual Flight Rules (VFR) service to aircraft operating in the vicinity of the Melbourne International Airport, to the Daytona Beach Radar Approach Control Facility, which provides Instrument Flight Rules (IFR) air traffic control service to the Melbourne International Airport. This action also changes the name of the airport in the legal description from Melbourne Regional to Melbourne International Airport.

EFFECTIVE DATE: 0901 UTC, November 30, 2000.

FOR FURTHER INFORMATION CONTACT: Nancy B. Shelton, Manager, Airspace Branch, Air Traffic Division, Federal Aviation Administration, P.O. Box 20636, Atlanta, Georgia 30320; telephone (404) 305-5586.

SUPPLEMENTARY INFORMATION:

History

On July 14, 2000, the FAA proposed to amend part 71 of the Federal Aviation Regulations (14 CFR part 71) by amending Class D airspace at Melbourne, FL (65 FR 43722). Class D airspace designations are published in Paragraph 5000 of FAA Order 7400.9G, dated September 1, 1999, and effective September 16, 1999, which is incorporated by reference in 14 CFR 71.1. The Class D airspace designation listed in this document will be published subsequently in the Order.

Interested parties were invited to participate in this rulemaking proceeding by submitting written comments on the proposal to the FAA. No comments objecting to the proposal were received.

The Rule

This amendment to Part 71 of the Federal Aviation Regulations (14 CFR part 71) amends Class D airspace at Melbourne, FL.

The FAA has determined that this regulation only involves an established body of technical regulations for which frequent and routine amendments are necessary to keep them operationally current. It, therefore, (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9G, Airspace Designations and Reporting Points, dated September 1, 1999, and effective September 16, 1999, is amended as follows:

Paragraph 5000 Class D Airspace.

* * * * *

ASO FL D Melbourne, FL [Revised]

Melbourne International Airport, FL

(Lat. 28°06′10″ N, long. 80°38′45″ W)

Patrick AFB

(Lat. 28°14′22″ N, long. 80°36′27″ W)

That airspace extending upward from the surface, to and including 1,900 feet MSL within a 4.3-mile radius of the Melbourne International Airport, excluding the portion north of a line connecting the 2 points of intersection with a 5.3-mile radius circle centered on Patrick AFB. This Class D airspace area is effective during the specific dates and times established in advance by a Notice to Airmen. The effective dates and times will thereafter be continuously published in the Airport/Facility Directory.

* * * * *

Issued in College Park, Georgia, on September 7, 2000.
Marvin A. Burnette,
Acting Manager, Air Traffic Division, Southern Region.

[FR Doc. 00-24144 Filed 9-19-00; 8:45 am]

BILLING CODE 4910-13-M